DEPARTMENT OF ENERGY

Federal Energy Regulatory Commission

[Docket No. RC11-6-015]

North American Electric Reliability Corporation; Notice of Staff Review of Enforcement Programs

Commission staff coordinated with the staff of the North American Electric Reliability Corporation (NERC) to conduct the annual oversight of the Find, Fix, Track and Report (FFT) program, as outlined in the March 15, 2012 Order,¹ and the Compliance Exception (CE) Program, as proposed by NERC's September 18, 2015 annual Compliance Filing and accepted by delegated letter order.²

¹ North American Electric Reliability Corp., 138 FERC ¶ 61,193, at P 73 (2012) (discussing Commission plans to survey a random sample of FFTs submitted each year to gather information on how the FFT program is working).

² North American Electric Reliability Corp., Docket No. RC11-6-004, at 1 (Nov. 13, 2015) (delegated letter order) (accepting NERC's proposal to combine the evaluation of CEs with the annual sampling of FFTs).

Commission staff reviewed a sample of 34 of 223 FFTs and 31 of 946 CEs posted by NERC between October 2021 and September 2022.

Commission staff found that the FFT and CE programs are meeting expectations, with limited exceptions. All 65 FFTs and CEs have been adequately remediated and the root cause of each noncompliance was clearly identified. Commission staff also reviewed the supporting information for these FFTs or CEs and agreed with the final risk determinations for all 65 noncompliances, which clearly identified the factors affecting the risk prior to mitigation (such as potential and actual risk) and actual harm. Further, no FFTs or CEs sampled contained any material misrepresentations by the registered entities. Commission staff found that the Regional Entities appropriately identified 64 of the 65 noncompliances as appropriate to be processed as FFTs and CEs. Nevertheless, there was one identified instance where an FFT would have been more appropriately processed as a spreadsheet notice of penalty. Staff also noted in three instances that the posted description of the noncompliances were incomplete or had minor errors.

Dated: September 11, 2023.
Kimberly D. Bose,
Secretary.

[FR Doc. 2023-19992 Filed 9-14-23; 8:45 am]

BILLING CODE 6717-01-P